DEPARTMENT OF ENERGY

Federal Energy Regulatory Commission

[Project No. 2197-042, North Carolina]

Alcoa Power Generating, Inc.; Notice Extending Public Comment Period for Non-Project Use of Project Lands Application

November 7, 2000.

On August 1, 2000, Alcoa Power Generating, Inc. (Alcoa) filed a non-project use of project lands application for Commission approval. In its application, Alcoa proposes to grant a permit to KEJ Marketing Co., Inc., for the construction of four boat docks with a total of 48 boat slips and one boat launch ramp on Narrows Reservoir, part of the Yadkin Hydroelectric Project. Alcoa proposes to grant a second permit to Heron Bay Homeowners Association for the use and operation of the above facilities. The above facilities would not be open to the public; they would be for Heron Bay residents only. The Yadkin Project contains the following reservoirs: High Rock, Tuckertown, Narrows (Badin) and Falls.

On October 2, 2000, Commission staff issued a public notice for the above application soliciting comments, recommendations for terms and conditions, protests, and motions to intervene by November 13, 2000. On November 3, 2000, the North Carolina Wildlife Resources Commission (NCWRC) filed a request for an additional weeks to provide comments. Upon consideration, the comment closing date for all interested entities to file comments, recommendations for terms and conditions, protests, and motions to intervene is extended to and including November 27, 2000.

Anyone may file comments, recommendations for terms and conditions, protests, and motions to intervene on the application. The public, federal and state resource agencies are encouraged to provide comments. Send an original and eight copies of all comments marked with the project number P-2197-042 to: The Secretary, Federal Energy Regulatory Commission, 888 First Street, NE, Washington, DC 20426. If you have any questions regarding this notice, please call Steve Hocking at (202) 219-2656. Comments and protests may be filed electronically via the internet in lieu of paper. See 18 CFR 385.2001(a)(1)(iii) and the instructions on the Commission's web site at http://www.ferc.fed.us/efi/doorbell.htm.

David P. Boergers,
Secretary.

[FR Doc. 00-29019 Filed 11-13-00; 8:45 am]

BILLING CODE 6717-01-M